DEPARTMENT OF LABOR

Office of the Secretary

Submission for OMB Review; Comment Request

October 16, 2003.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation, contact Darrin King on 202-693-4129 (this is not a toll-free number) or e-mail king.darrin@dol.gov.

Comments should be sent to Office of Information and Regulatory Affairs, Attn: OMB Desk Officer for the Employment and Training Administration (ETA), Office of Management and Budget, Room 10235, Washington, DC 20503 (202-395-7316/this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technology collection techniques or other forms of information technology, e.g., permitting electronic submission of responses.

Agency: Employment and Training Administration.

Type of Review: Revision of a currently approved collection.

Title: Occupational Code Assignment (OCA).

OMB Number: 1205-0137.

Affected Public: State, local, or tribal government; Individuals or households; Business or other for-profit; Not-for-profit institutions; and Federal Government

Type of Response: Reporting.

Frequency: On occasion.

Number of Respondents: 177.

Annual Responses: 177.

Average Response Time: 30 minutes.

Annual Burden Hours: 89.

Total Annualized Capital/Startup Costs: $0.

Total Annual Costs (operating/maintaining systems or purchasing services): $0.

Description: The Occupational Analysis program developed the Occupational Code Request (OCR) form as a public service to the users of the revised Dictionary of Occupational Titles (DOT) in an effort to help them in obtaining occupational codes and titles for jobs that they were unable to locate in the DOT. With the development and release of the Occupational Information Network (O*NET) system, some modifications were needed to make the OCR form correlate more closely to the information in the O*NET system. The OCR form, with these modifications, has been renamed the Occupational Code Assignment (OCA) form.

Ira L. Mills,
Departmental Clearance Officer.

[FR Doc. 03-26886 Filed 10-23-03; 8:45 am]

BILLING CODE 4510-23-M